NUCLEAR REGULATORY COMMISSION

Agency Information Collection Activities: Proposed Collection; Comment Request

AGENCY: U.S. Nuclear Regulatory Commission (NRC).

ACTION: Notice of pending NRC action to submit an information collection request to the Office of Management and Budget (OMB) and solicitation of public comment.

SUMMARY: The NRC is preparing a submittal to OMB for review of continued approval of information collections under the provisions of the Paperwork Reduction Act of 1995 (44 U.S.C. Chapter 35).

Information pertaining to the requirement to be submitted:

1. The title of the information collection: NRC Form 354, “Data Report on Spouse.”

2. Current OMB approval number: 3150-0026.

3. How often the collection is required: On occasion.

4. Who is required or asked to report: NRC contractors, licensees, applicants and others (e.g. intervenor's) who marry or cohabitate after completing the Personnel Security Forms, or after having been granted an NRC access authorization or employment clearance.

5. The number of annual respondents: 60.

6. The number of hours needed annually to complete the requirement or request: 12 hours (0.2 hours per response).

7. Abstract: NRC Form 354 must be completed by NRC contractors, licensees, and applicants who marry or cohabitate after completing the Personnel Security Forms, or after having been granted an NRC access authorization or employment clearance. Form 354 identifies the respondent, the marriage, and data on the spouse and spouse's parents. This information permits the NRC to make initial security determinations and to assure there is no increased risk to the common defense and security.

Submit, by May 30, 2008, comments that address the following questions:

1. Is the proposed collection of information necessary for the NRC to properly perform its functions? Does the information have practical utility?

2. Is the burden estimate accurate?

3. Is there a way to enhance the quality, utility, and clarity of the information to be collected?

4. How can the burden of the information collection be minimized, including the use of automated collection techniques or other forms of information technology?

A copy of the draft supporting statement may be viewed free of charge at the NRC Public Document Room, One White Flint North, 11555 Rockville Pike, Room O-1 F21, Rockville, MD 20852. OMB clearance requests are available at the NRC worldwide Web site: http://www.nrc.gov/public-involve/doc-comment/omb/index.html. The document will be available on the NRC home page site for 60 days after the signature date of this notice.

Comments and questions about the information collection requirements may be directed to the NRC Clearance Officer, Margaret A. Janney (T-5 F52), U.S. Nuclear Regulatory Commission, Washington, DC 20555-0001, by telephone at 301-415-7245, or by e-mail to INFOCOLLECTS@NRC.GOV.

Dated at Rockville, Maryland, this 25th day of March 2008.
For the Nuclear Regulatory Commission.
Gregory Trussell,
Acting NRC Clearance Officer, Office of Information Services.

[FR Doc. E8-6518 Filed 3-28-08; 8:45 am]

BILLING CODE 7590-01-P